DEPARTMENT OF ENERGY

Federal Energy Regulatory Commission

Combined Notice of Filings #1

Take notice that the Commission received the following electric rate filings:

Docket Numbers: ER14-2742-000; ER14-2743-000; ER14-2744-000.

Applicants: Central Maine Power Company.

Description: eTariff filing per 35.19a(b): Refund Report to be effective N/A.

Filed Date: 12/2/14.

Accession Number: 20141202-5152.

Comments Due: 5 p.m. ET 12/23/14.

Docket Numbers: ER14-2824-001.

Applicants: California Independent System Operator Corporation.

Description: Compliance filing per 35: 2014-12-03 Pro Forma_APSA_Compliance to be effective 11/10/2014.

Filed Date: 12/3/14.

Accession Number: 20141203-5105.

Comments Due: 5 p.m. ET 12/24/14.

Docket Numbers: ER15-559-000.

Applicants: Pacific Gas and Electric Company.

Description: § 205(d) rate filing per 35.13(a)(2)(iii): Transmission Access Charge Balancing Account Adjustment (TACBAA) 2015 to be effective 3/1/2015.

Filed Date: 12/3/14.

Accession Number: 20141203-5009.

Comments Due: 5 p.m. ET 12/24/14.

Docket Numbers: ER15-560-000.

Applicants: Duke Energy Florida, Inc.

Description: § 205(d) rate filing per 35.13(a)(2)(iii): Amendment of FMPA NITSA SA No. 148 to be effective 1/1/2015.

Filed Date: 12/3/14.

Accession Number: 20141203-5049.

Comments Due: 5 p.m. ET 12/24/14.

Docket Numbers: ER15-561-000.

Applicants: Southwestern Public Service Company.

Description: § 205(d) rate filing per 35.13(a)(2)(iii): 12-3-14_RS114-117,137-Ministerial to be effective 1/1/2014.

Filed Date: 12/3/14.

Accession Number: 20141203-5058.

Comments Due: 5 p.m. ET 12/24/14.

Docket Numbers: ER15-562-000.

Applicants: Southwestern Public Service Company.

Description: § 205(d) rate filing per 35.13(a)(2)(iii): 12-3-14_RS135-Ministerial to be effective 1/1/2014.

Filed Date: 12/3/14.

Accession Number: 20141203-5059.

Comments Due: 5 p.m. ET 12/24/14.

Docket Numbers: ER15-563-000.

Applicants: New York Independent System Operator, Inc.

Description: § 205(d) rate filing per 35.13(a)(2)(iii): NYISO 205 filing re: blackstart and system restoration service to be effective 2/1/2015.

Filed Date: 12/3/14.

Accession Number: 20141203-5121.

Comments Due: 5 p.m. ET 12/24/14.

Docket Numbers: ER15-564-000.

Applicants: PJM Interconnection, L.L.C.

Description: § 205(d) rate filing per 35.13(a)(2)(iii): Service Agreement No. 3185; Queue No. W4-046 to be effective 11/10/2014.

Filed Date: 12/3/14.

Accession Number: 20141203-5135.

Comments Due: 5 p.m. ET 12/24/14.

Docket Numbers: ER15-565-000.

Applicants: Midcontinent Independent System Operator, Inc., American Transmission Systems, Incorporated.

Description: § 205(d) rate filing per 35.13(a)(2)(iii): 2014-12-03_SA 2715 ATC-OREA FCA to be effective 1/18/2015.

Filed Date: 12/3/14.

Accession Number: 20141203-5139.

Comments Due: 5 p.m. ET 12/24/14.

Docket Numbers: ER15-566-000.

Applicants: Midcontinent Independent System Operator, Inc., American Transmission Systems, Incorporated.

Description: § 205(d) rate filing per 35.13(a)(2)(iii): 2014-12-03_SA 2716 ATC-Ontonagon County D-TIA to be effective 9/1/2015.

Filed Date: 12/3/14.

Accession Number: 20141203-5143.

Comments Due: 5 p.m. ET 12/24/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 3, 2014.
Nathaniel J. Davis, Sr.,
Deputy Secretary.

[FR Doc. 2014-28863 Filed 12-9-14; 8:45 am]

BILLING CODE 6717-01-P